DEPARTMENT OF TRANSPORTATION

Federal Aviation Administration

Agency Information Collection Activities: Requests for Comments; Clearance of Renewed Approval of Information Collection: Type Certification Procedures for Changed Products

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on October 26, 2011, vol. 76, no. 207, page 66347. 14 CFR part 21 may require applicants to demonstrate compliance with the latest regulations in effect on the date of application for amended Type Certificates (TC) or a Supplemental TCs for aeronautical products.

DATES: Written comments should be submitted by January 26, 2012.

FOR FURTHER INFORMATION CONTACT: Kathy DePaepe at (405) 954-9362, or by email at: KathyA.DePaepe@faa.gov.

SUPPLEMENTARY INFORMATION: OMB Control Number: 2120-0657.

Title: Type Certification Procedures for Changed Products.

Form Numbers: There are no FAA forms associated with this collection.

Type of Review: Renewal of an information collection.

Background: 14 CFR Part 21 requires that, with certain exceptions, all aviation product changes comply with the latest airworthiness standards when determining the certification basis for aeronautical products. This process is intended to increase safety by applying the latest regulations where practicable. A certification application request, in letter form, and a supporting data package is made to the appropriate Federal Aviation Administration (FAA) Aircraft Certification Office by an aircraft/product manufacturer/modifier.

Respondents: Approximately 2,558 manufacturers/modifiers.

Frequency: Information is collected on occasion.

Estimated Average Burden per Response: 7.35 hours.

Estimated Total Annual Burden: 18,815 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on December 19, 2011.
Albert R. Spence,
FAA Assistant Information Collection Clearance Officer, IT Enterprises Business Services Division, AES-200.

[FR Doc. 2011-33042 Filed 12-23-11; 8:45 am]

BILLING CODE 4910-13-P